DEPARTMENT OF ENERGY

Federal Energy Regulatory Commission

[Docket No. EC03-56-000, et al.]

American Transmission Company, LLC, et al.; Electric Rate and Corporate Regulation Filings

February 13, 2002.

The following filings have been made with the Commission. The filings are listed in ascending order within each docket classification.

1. American Transmission Company LLC, ATC Management Inc., Wisconsin Public Service Corporation, WPS Investments, LLC

[Docket No. EC03-56-000]

Take notice that on February 10, 2003, Wisconsin Public Service Corporation, WPS Investments, LLC, American Transmission Company LLC (ATCLLC), and ATC Management Inc., which is ATCLLC's Corporate Manager (collectively, Applicants), tendered for filing with the Federal Energy Regulatory Commission (Commission) an application pursuant to section 203 of the Federal Power Act and part 33 of the Commission's regulations requesting authorization for the acquisition of securities and the transfer of an ownership interest in a transmission line that is under construction. Applicants requested an effective date of March 12, 2003.

Applicants state that copies of the filing were served on the Public Service Commission of Wisconsin, the Michigan Public Service Commission and the Illinois Commerce Commission.

Comment Date: March 3, 2003.

2. PSEG Power Connecticut LLC

[Docket No. EG03-25-000]

Take notice that on February 11, 2003, PSEG Power Connecticut LLC (Applicant), having its principal place of business at 80 Park Plaza, T-16, Newark, NJ 07102, filed with the Federal Energy Regulatory Commission (Commission) a second amendment to its December 4, 2002, application for determination of exempt wholesale generator status pursuant to part 365 of the Commission's regulations. The amendment requests Commission authority to engage in certain additional activities incidental to the generation of electricity for sale at wholesale.

The Applicant is a limited liability company formed under the laws of the State of Delaware. The Applicant states that it is engaged, directly or indirectly through an affiliate as defined in section 2(a)(11)(B) of the Public Utility Holding Company Act of 1935 (PUHCA), exclusively in owning or owning and operating eligible electric facilities and participating in certain other activities incidental to such eligible electric facilities as authorized under PUHCA. The Applicant further states that it owns and operates eligible facilities located in Connecticut.

Comment Date: March 6, 2003.

3. Occidental Power Services, Inc.

[Docket No. ER02-1947-003]

Take notice that on February 11, 2003, Occidental Power Services, Inc., tendered for filing consistent with the Commission's January 17, 2003, request for a revised FERC Electric Rate Schedule No. 1. The rate schedule has been revised to conform to the requirements of Order No. 614.

Comment Date: March 4, 2003.

4. San Diego Gas & Electric Company

[Docket No. ER03-217-001]

Take notice that on February 11, 2003, pursuant to FERC's Order issued January 24, 2003, San Diego Gas & Electric Company (SDG&E) tendered for filing Service Agreements Nos. 17 and 18 to its FERC Electric Tariff, First Revised Volume No. 6. These agreements were accepted for filing on January 24, 2003, conditioned upon SDG&E's filing of designations for both interconnection agreements in compliance with Order No. 614 and section 35.9(a) of the Commission's Regulations.

SDG&E states that copies of the filing have been served on Termoelectrica de Mexicali S. de R.L. de C.V., Termoelectrica U.S., LLC, and on the California Public Utilities Commission.

Comment Date: March 4, 2003.

5. Southern California Edison Company

[Docket No. ER03-516-000]

Take notice that on February 11, 2003, Southern California Edison Company (SCE) tendered for filing a letter agreement between SCE and Whitewater Hill Wind Partners, LLC (Whitewater).

The purpose of the letter agreement is to provide an interim arrangement pursuant to which SCE will commence the engineering, design, and procurement of material and equipment associated with the Devers-Banning-Garnet-Windpark-Zanja 115 kV line reconfiguration.

SCE states that copies of this filing were served upon the Public Utilities Commission of the State of California and Whitewater.

Comment Date: March 4, 2003.

6. Southern California Edison Company

[Docket No. ER03-517-000]

Take notice that on February 11, 2003, Southern California Edison Company (SCE) tendered for filing a letter agreement between SCE and Whitewater Hill Partners, LLC (Whitewater).

The purpose of the letter agreement is to provide an interim arrangement pursuant to which SCE will commence the engineering, design, and procurement of material and equipment for, and construction of, a Temporary Monitoring System.

SCE states that copies of this filing were served upon the Public Utilities Commission of the State of California and Whitewater.

Comment Date: March 4, 2003.

7. Southern California Edison Company

[Docket No. ER03-518-000]

Take notice that on February 11, 2003, Southern California Edison Company (SCE) tendered for filing a letter agreement between SCE and Industry Urban Development Agency.

The purpose of the letter agreement is to provide an interim arrangement pursuant to which SCE will commence performance of the engineering, design, and preparation of specifications necessary for SCE to install interconnection facilities capable of serving 80 MW of load and to commence Distribution Service to the City of Industry for 10 MW of Wholesale Distribution Load.

SCE respectfully requests that the Letter Agreement become effective on January 22, 2003. SEC also states that copies of this filing were served upon the Public Utilities Commission of the State of California and Industry Urban Development Agency.

Comment Date: March 4, 2003.

8. Virginia Electric and Power Company

[Docket No. ER03-519-000]

Take notice that on February 11, 2003, Virginia Electric and Power Company, doing business as Dominion Virginia Power (DVP), tendered for filing a revised Generator Interconnection and Operating Agreement (Interconnection Agreement) between DVP and Old Dominion Electric Cooperative, Inc. (ODEC) to interconnect ODEC's Louisa CT Project with DVP's transmission system and a revised Interconnection Agreement between DVP and ODEC to interconnect ODEC's Marsh Run CT Project with DVP's transmission system.

DVP respectfully requests waiver of the Commission's regulations to allow the Interconnection Agreements to become effective as of February 12, 2003, the day after filing. DVP also states that copies of the filing were served upon Old Dominion Electric Cooperative and the Virginia State Corporation Commission.

Comment Date: March 4, 2003.

9. Southern California Edison Company

[Docket No. ER03-520-000]

Take notice that on February 11, 2003, Southern California Edison Company (SCEC), tendered for filing a notice of cancellation of a letter agreement between SCE, Pure Power Energy Company, LLC, and Wintec Energy Ltd., FERC Electric Tariff, Substitute First Revised Original Volume No. 6 Service Agreement No. 15, to be effective January 1, 2003.

SCEC states that the proposed cancellation has been served upon the Public Utilities Commission of the State of California, Pure Power Energy Company, LLC and Wintec Energy, Ltd.

Comment Date: March 4, 2003.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-4208 Filed 2-21-03; 8:45 am]

BILLING CODE 6717-01-P